DEPARTMENT OF LABOR

Employment and Training Administration

Notice on Reallotment of Workforce Innovation Opportunity Act Title I Formula Allotted Funds for Dislocated Worker Activities for Program Year 2022

AGENCY: Employment and Training Administration (ETA), Labor.

ACTION: Notice.

SUMMARY: The Workforce Innovation Opportunity Act (WIOA), requires the Secretary of Labor (Secretary) to conduct reallotment of certain WIOA formula allotted funds based on ETA-9130 financial reports submitted by states at of the end of the prior Program Year (PY). This notice publishes the Dislocated Worker PY 2022 funds for recapture by state and the amount to be reallotted to eligible states.

DATES: This notice is effective March 20, 2023.

FOR FURTHER INFORMATION CONTACT: Ms. Kimberly Vitelli, Administrator, U.S. Department of Labor, Office of Workforce Investment, Employment and Training Administration, Room C-4510, 200 Constitution Avenue NW, Washington, DC. Telephone (202) 693-3639 (this is not a toll-free number) or fax (202) 693-3981.

SUPPLEMENTARY INFORMATION: In the Fiscal Year (FY) 2022 Consolidated Appropriations Act, Congress appropriated WIOA PY 2022 funds in two portions: (1) funds available for obligation July 1, 2022 (i.e., PY 2022 “base” funds), and (2) funds available for obligation October 1, 2022 (i.e., FY 2023 “advance” funds). Together, these two portions make up the complete PY 2022 WIOA funding. Training and Employment Guidance Letter (TEGL) No. 09-21 announced WIOA allotments based on this appropriation and TEGL No. 19-20 alerted states to the recapture and reallotment of funds' provisions based on obligations of PY 2021 funding, as required under WIOA Section 132(c). This section and 127(c) of WIOA requires the Secretary to conduct reallotment of excess unobligated WIOA Adult, Youth, and Dislocated Worker formula funds based on ETA 9130 financial reports submitted by states at the end of the prior program year (i.e., PY 2021).

WIOA regulations at 20 CFR 683.135 describe the procedures the Secretary uses for recapture and reallotment of funds. ETA will not recapture any PY 2022 funds for the Adult and Youth programs because there are no states where PY 2021 unobligated funds exceed the statutory requirements of 20 percent of state allotted funds. However, for the Dislocated Worker program, Ohio and Puerto Rico had unobligated PY 2021 funds in excess of 20 percent of their allotments. Therefore, ETA will recapture a total of $4,957,289 from PY 2022 funding from Ohio and Puerto Rico and reallot those funds to the remaining eligible states, as required by WIOA Section 132(c).

ETA will issue a Notice of Award to the states to reflect the recapture and reallotment of these funds. The adjustment of funds will be made to the FY 2023 advance portion of the PY 2022 allotments, which ETA issued in October 2022. The attached tables display the net changes to PY 2022 formula allotments.

WIOA and its implementing regulations do not provide specific requirements by which states must distribute realloted funds, so states have flexibility to determine the methodology used. For any state subject to recapture of funds, WIOA Section 132(c)(5) requires the Governor to prescribe equitable procedures for reacquiring funds from the state and local areas.

As mentioned, the recapture/reallotment adjustments will be made to the FY 2023 advance portion of the PY 2022 allotment. Therefore, for reporting purposes, states must reflect the recapture/reallotment amount (decrease or increase) in the “Total Federal Funds Authorized” line of any affected FY 2023 ETA 9130 financial reports (State Dislocated Worker Activities, Statewide Rapid Response, Local Dislocated Worker Activities) in a manner consistent with the method of distribution of these amounts to state and local areas used by the state. The state must include an explanation of the adjustment in the remarks section of the adjusted reports.

As part of ETA's transition away from legacy systems, the new Payment Management System (PMS) Financial Reporting System will go live for ETA grant recipients' submission of the quarterly ETA 9130 financial reports on April 3, 2023. PMS is operated by the U.S. Department of Health and Human Services, which will conduct training for ETA grant recipients on the use of the new reporting system. Additional guidance and information on the access and use of the PMS Financial Reporting System for the submission of future ETA 9130 quarterly financial reports is provided in Training and Employment Notice (TEN) No. 16-22. The PMS Financial Reporting System training sessions will be recorded and available for future reference.

I. Attachment A

U.S. Department of Labor—Employment and Training Administration WIOA Dislocated Worker Activities, PY 2022 Reallotment to States
| Calculating reallotment amount *: Excess unobligated PY 2021 funds to be recaptured from PY 2022 funds | Calculating reallotment amount *: Eligible states' PY 2021 ¹ dislocated worker allotments | Calculating reallotment amount *: Reallotment amount for eligible states (based on eligible states' share of PY 2021 allotments) | Impact on PY 2022 allotments: Total original PY 2022 ² allotments before reallotment | Impact on PY 2022 allotments: Recapture/ reallotment adjustment to PY 2022 allotments | Impact on PY 2022 allotments: Revised total PY 2022 allotments
Alabama | $0 | $15,761,092 | $81,695 | $14,354,136 | $81,695 | $14,435,831
Alaska | 0 | 7,633,946 | 39,569 | 6,952,482 | 39,569 | 6,992,051
Arizona ** | 0 | 36,105,314 | 187,146 | 32,882,281 | 187,146 | 33,069,427
Arkansas | 0 | 5,494,558 | 28,480 | 5,004,071 | 28,480 | 5,032,551
California | 0 | 149,732,614 | 776,113 | 172,716,686 | 776,113 | 173,492,799
Colorado | 0 | 12,160,847 | 63,034 | 15,998,009 | 63,034 | 16,061,043
Connecticut | 0 | 12,338,774 | 63,956 | 13,434,048 | 63,956 | 13,498,004
Delaware | 0 | 3,066,469 | 15,895 | 2,792,814 | 15,895 | 2,808,709
District of Columbia | 0 | 10,071,146 | 52,202 | 9,172,120 | 52,202 | 9,224,322
Florida | 0 | 51,295,094 | 265,879 | 46,716,550 | 265,879 | 46,982,429
Georgia | 0 | 33,422,525 | 173,240 | 30,438,974 | 173,240 | 30,612,214
Hawaii | 0 | 2,119,251 | 10,985 | 2,787,961 | 10,985 | 2,798,946
Idaho | 0 | 2,028,258 | 10,513 | 1,847,221 | 10,513 | 1,857,734
Illinois | 0 | 51,363,593 | 266,234 | 46,778,485 | 266,234 | 47,044,719
Indiana | 0 | 14,964,374 | 77,565 | 13,628,787 | 77,565 | 13,706,352
Iowa | 0 | 4,937,925 | 25,595 | 4,497,235 | 25,595 | 4,522,830
Kansas | 0 | 4,545,136 | 23,559 | 4,139,435 | 23,559 | 4,162,994
Kentucky | 0 | 14,549,507 | 75,415 | 13,250,923 | 75,415 | 13,326,338
Louisiana | 0 | 18,465,924 | 95,715 | 16,817,514 | 95,715 | 16,913,229
Maine | 0 | 2,323,143 | 12,042 | 2,242,181 | 12,042 | 2,254,223
Maryland | 0 | 13,614,694 | 70,569 | 17,212,091 | 70,569 | 17,282,660
Massachusetts | 0 | 20,200,899 | 104,708 | 22,669,765 | 104,708 | 22,774,473
Michigan | 0 | 34,359,104 | 178,095 | 31,292,714 | 178,095 | 31,470,809
Minnesota | 0 | 10,349,918 | 53,647 | 9,426,224 | 53,647 | 9,479,871
Mississippi | 0 | 15,299,204 | 79,301 | 13,933,482 | 79,301 | 14,012,783
Missouri | 0 | 12,029,945 | 62,355 | 10,956,060 | 62,355 | 11,018,415
Montana | 0 | 1,753,385 | 9,088 | 1,596,891 | 9,088 | 1,605,979
Nebraska | 0 | 2,203,229 | 11,420 | 2,006,552 | 11,420 | 2,017,972
Nevada | 0 | 15,075,456 | 78,141 | 14,994,671 | 78,141 | 15,072,812
New Hampshire | 0 | 2,326,467 | 12,059 | 2,118,850 | 12,059 | 2,130,909
New Jersey | 0 | 33,934,712 | 175,895 | 36,473,636 | 175,895 | 36,649,531
New Mexico ** | 0 | 16,391,301 | 84,962 | 14,928,088 | 84,962 | 15,013,050
New York | 0 | 65,472,584 | 339,366 | 82,585,211 | 339,366 | 82,924,577
North Carolina | 0 | 25,756,798 | 133,506 | 23,457,549 | 133,506 | 23,591,055
North Dakota | 0 | 864,897 | 4,483 | 813,070 | 4,483 | 817,553
Ohio | 262,751 | 0 | 0 | 30,695,154 | (262,751) | 30,432,403
Oklahoma | 0 | 6,651,637 | 34,478 | 6,139,713 | 34,478 | 6,174,191
Oregon | 0 | 11,193,029 | 58,017 | 10,443,575 | 58,017 | 10,501,592
Pennsylvania | 0 | 47,142,465 | 244,355 | 42,934,413 | 244,355 | 43,178,768
Puerto Rico | 4,694,538 | 0 | 0 | 62,908,530 | (4,694,538) | 58,213,992
Rhode Island | 0 | 3,900,614 | 20,218 | 3,552,454 | 20,218 | 3,572,672
South Carolina | 0 | 12,934,317 | 67,043 | 11,779,701 | 67,043 | 11,846,744
South Dakota | 0 | 1,451,589 | 7,524 | 1,322,041 | 7,524 | 1,329,565
Tennessee | 0 | 15,843,405 | 82,122 | 14,429,101 | 82,122 | 14,511,223
Texas | 0 | 65,624,473 | 340,153 | 83,358,322 | 340,153 | 83,698,475
Utah ** | 0 | 3,863,062 | 20,024 | 3,518,216 | 20,024 | 3,538,240
Vermont | 0 | 1,103,986 | 5,722 | 1,005,465 | 5,722 | 1,011,187
Virginia | 0 | 15,539,343 | 80,546 | 14,152,452 | 80,546 | 14,232,998
Washington | 0 | 24,435,839 | 126,659 | 22,254,509 | 126,659 | 22,381,168
West Virginia | 0 | 11,650,017 | 60,386 | 10,610,160 | 60,386 | 10,670,546
Wisconsin | 0 | 11,940,594 | 61,892 | 10,874,839 | 61,892 | 10,936,731
Wyoming | 0 | 1,104,141 | 5,723 | 1,005,588 | 5,723 | 1,011,311
State Total | 4,957,289 | 956,390,594 | 4,957,289 | 1,071,901,000 | 0 | 1,071,901,000
* Including prior year recapture/reallotment amounts.
** Includes funds allocated to the Navajo Nation.
¹ PY 2021 allotment amounts are used to determine the reallotment amount eligible states receive of the recaptured amount.
² PY 2022 allotment amounts are original allotment amounts per TEGL 09-21.

II. Attachment B

U.S. Department of Labor—Employment and Training Administration WIOA Dislocated Worker Activities, PY 2022 Revised Allotments With Reallotment—PY/FY Split
| Total allotment: Original | Total allotment: Recapture/ reallotment | Total allotment: Revised | Available 7/1/22: Original | Available 7/1/22: Recapture/ reallotment | Available 7/1/22: Revised | Available 10/1/22: Original | Available 10/1/22: Recapture/ reallotment | Available 10/1/22: Revised
Alabama | 14,354,136 | 81,695 | 14,435,831 | 2,886,533 |  | 2,886,533 | 11,467,603 | 81,695 | 11,549,298
Alaska | 6,952,482 | 39,569 | 6,992,051 | 1,398,103 |  | 1,398,103 | 5,554,379 | 39,569 | 5,593,948
Arizona * | 32,882,281 | 187,146 | 33,069,427 | 6,612,434 |  | 6,612,434 | 26,269,847 | 187,146 | 26,456,993
Arkansas | 5,004,071 | 28,480 | 5,032,551 | 1,006,289 |  | 1,006,289 | 3,997,782 | 28,480 | 4,026,262
California | 172,716,686 | 776,113 | 173,492,799 | 34,732,312 |  | 34,732,312 | 137,984,374 | 776,113 | 138,760,487
Colorado | 15,998,009 | 63,034 | 16,061,043 | 3,217,106 |  | 3,217,106 | 12,780,903 | 63,034 | 12,843,937
Connecticut | 13,434,048 | 63,956 | 13,498,004 | 2,701,508 |  | 2,701,508 | 10,732,540 | 63,956 | 10,796,496
Delaware | 2,792,814 | 15,895 | 2,808,709 | 561,619 |  | 561,619 | 2,231,195 | 15,895 | 2,247,090
District of Columbia | 9,172,120 | 52,202 | 9,224,322 | 1,844,460 |  | 1,844,460 | 7,327,660 | 52,202 | 7,379,862
Florida | 46,716,550 | 265,879 | 46,982,429 | 9,394,424 |  | 9,394,424 | 37,322,126 | 265,879 | 37,588,005
Georgia | 30,438,974 | 173,240 | 30,612,214 | 6,121,099 |  | 6,121,099 | 24,317,875 | 173,240 | 24,491,115
Hawaii | 2,787,961 | 10,985 | 2,798,946 | 560,643 |  | 560,643 | 2,227,318 | 10,985 | 2,238,303
Idaho | 1,847,221 | 10,513 | 1,857,734 | 371,465 |  | 371,465 | 1,475,756 | 10,513 | 1,486,269
Illinois | 46,778,485 | 266,234 | 47,044,719 | 9,406,879 |  | 9,406,879 | 37,371,606 | 266,234 | 37,637,840
Indiana | 13,628,787 | 77,565 | 13,706,352 | 2,740,669 |  | 2,740,669 | 10,888,118 | 77,565 | 10,965,683
Iowa | 4,497,235 | 25,595 | 4,522,830 | 904,368 |  | 904,368 | 3,592,867 | 25,595 | 3,618,462
Kansas | 4,139,435 | 23,559 | 4,162,994 | 832,416 |  | 832,416 | 3,307,019 | 23,559 | 3,330,578
Kentucky | 13,250,923 | 75,415 | 13,326,338 | 2,664,683 |  | 2,664,683 | 10,586,240 | 75,415 | 10,661,655
Louisiana | 16,817,514 | 95,715 | 16,913,229 | 3,381,903 |  | 3,381,903 | 13,435,611 | 95,715 | 13,531,326
Maine | 2,242,181 | 12,042 | 2,254,223 | 450,889 |  | 450,889 | 1,791,292 | 12,042 | 1,803,334
Maryland | 17,212,091 | 70,569 | 17,282,660 | 3,461,250 |  | 3,461,250 | 13,750,841 | 70,569 | 13,821,410
Massachusetts | 22,669,765 | 104,708 | 22,774,473 | 4,558,757 |  | 4,558,757 | 18,111,008 | 104,708 | 18,215,716
Michigan | 31,292,714 | 178,095 | 31,470,809 | 6,292,781 |  | 6,292,781 | 24,999,933 | 178,095 | 25,178,028
Minnesota | 9,426,224 | 53,647 | 9,479,871 | 1,895,558 |  | 1,895,558 | 7,530,666 | 53,647 | 7,584,313
Mississippi | 13,933,482 | 79,301 | 14,012,783 | 2,801,941 |  | 2,801,941 | 11,131,541 | 79,301 | 11,210,842
Missouri | 10,956,060 | 62,355 | 11,018,415 | 2,203,199 |  | 2,203,199 | 8,752,861 | 62,355 | 8,815,216
Montana | 1,596,891 | 9,088 | 1,605,979 | 321,125 |  | 321,125 | 1,275,766 | 9,088 | 1,284,854
Nebraska | 2,006,552 | 11,420 | 2,017,972 | 403,506 |  | 403,506 | 1,603,046 | 11,420 | 1,614,466
Nevada | 14,994,671 | 78,141 | 15,072,812 | 3,015,340 |  | 3,015,340 | 11,979,331 | 78,141 | 12,057,472
New Hampshire | 2,118,850 | 12,059 | 2,130,909 | 426,088 |  | 426,088 | 1,692,762 | 12,059 | 1,704,821
New Jersey | 36,473,636 | 175,895 | 36,649,531 | 7,334,634 |  | 7,334,634 | 29,139,002 | 175,895 | 29,314,897
New Mexico * | 14,928,088 | 84,962 | 15,013,050 | 3,001,951 |  | 3,001,951 | 11,926,137 | 84,962 | 12,011,099
New York | 82,585,211 | 339,366 | 82,924,577 | 16,607,401 |  | 16,607,401 | 65,977,810 | 339,366 | 66,317,176
North Carolina | 23,457,549 | 133,506 | 23,591,055 | 4,717,175 |  | 4,717,175 | 18,740,374 | 133,506 | 18,873,880
North Dakota | 813,070 | 4,483 | 817,553 | 163,504 |  | 163,504 | 649,566 | 4,483 | 654,049
Ohio | 30,695,154 | (262,751) | 30,432,403 | 6,172,615 |  | 6,172,615 | 24,522,539 | (262,751) | 24,259,788
Oklahoma | 6,139,713 | 34,478 | 6,174,191 | 1,234,660 |  | 1,234,660 | 4,905,053 | 34,478 | 4,939,531
Oregon | 10,443,575 | 58,017 | 10,501,592 | 2,100,142 |  | 2,100,142 | 8,343,433 | 58,017 | 8,401,450
Pennsylvania | 42,934,413 | 244,355 | 43,178,768 | 8,633,859 |  | 8,633,859 | 34,300,554 | 244,355 | 34,544,909
Puerto Rico | 62,908,530 | (4,694,538) | 58,213,992 | 12,650,536 |  | 12,650,536 | 50,257,994 | (4,694,538) | 45,563,456
Rhode Island | 3,552,454 | 20,218 | 3,572,672 | 714,378 |  | 714,378 | 2,838,076 | 20,218 | 2,858,294
South Carolina | 11,779,701 | 67,043 | 11,846,744 | 2,368,829 |  | 2,368,829 | 9,410,872 | 67,043 | 9,477,915
South Dakota | 1,322,041 | 7,524 | 1,329,565 | 265,855 |  | 265,855 | 1,056,186 | 7,524 | 1,063,710
Tennessee | 14,429,101 | 82,122 | 14,511,223 | 2,901,608 |  | 2,901,608 | 11,527,493 | 82,122 | 11,609,615
Texas | 83,358,322 | 340,153 | 83,698,475 | 16,762,869 |  | 16,762,869 | 66,595,453 | 340,153 | 66,935,606
Utah * | 3,518,216 | 20,024 | 3,538,240 | 707,493 |  | 707,493 | 2,810,723 | 20,024 | 2,830,747
Vermont | 1,005,465 | 5,722 | 1,011,187 | 202,193 |  | 202,193 | 803,272 | 5,722 | 808,994
Virginia | 14,152,452 | 80,546 | 14,232,998 | 2,845,975 |  | 2,845,975 | 11,306,477 | 80,546 | 11,387,023
Washington | 22,254,509 | 126,659 | 22,381,168 | 4,475,251 |  | 4,475,251 | 17,779,258 | 126,659 | 17,905,917
West Virginia | 10,610,160 | 60,386 | 10,670,546 | 2,133,641 |  | 2,133,641 | 8,476,519 | 60,386 | 8,536,905
Wisconsin | 10,874,839 | 61,892 | 10,936,731 | 2,186,866 |  | 2,186,866 | 8,687,973 | 61,892 | 8,749,865
Wyoming | 1,005,588 | 5,723 | 1,011,311 | 202,218 |  | 202,218 | 803,370 | 5,723 | 809,093
State Total | 1,071,901,000 |  | 1,071,901,000 | 215,553,000 |  | 215,553,000 | 856,348,000 |  | 856,348,000
* Includes funds allocated to the Navajo Nation.

Brent Parton,
Acting Assistant Secretary for Employment and Training, Labor.

[FR Doc. 2023-05567 Filed 3-17-23; 8:45 am]

BILLING CODE 4510-FR-P